DEPARTMENT OF STATE

[Public Notice 3490]

Bureau of Educational and Cultural Affairs Request for Grant Proposals: Summer Institute on Education Reform for Nigerian Tertiary Education Administrators and Policy Makers

SUMMARY: The African Programs Branch of the Office of Academic Exchange Programs of the Bureau of Educational and Cultural Affairs announces an open competition for a Summer Institute on Education Reform for Nigerian Tertiary Education Administrators and Policy Makers. Public and private non-profit organizations meeting the provisions described in IRS regulation 26 CFR 1.501(c) may submit proposals to provide a six-week program for up to 25 Nigerian tertiary level education administrators and government officials responsible for making and implementing education policy. Requested Bureau funding must not exceed $200,000.

All Summer Institute programming and logistics including design and implementation of the academic, cultural, and administrative components will be the responsibility of the grantee. These responsibilities include (1) an academic component that adheres closely to the goals and objectives set forth in the RFGP, (2) a cultural component that complements and reinforces material covered in the academic component, and includes a stay of up to a week in Washington and a trip to another major U.S. city, and 3) an administrative component to provide for the comfort and well-being of the participants which includes arranging and budgeting for housing, meals, transportation in the U.S., allowances for incidental expenses, books, and excess baggage.

Proposals must conform to requirements set forth in the Solicitation Package, that is, the program information and guidelines stated in this Request for Grant Proposals (RFGP) as well as the standard Proposal Submission Instructions (PSI). Applications not adhering to the conditions set forth herein may be deemed technically ineligible.

The guidelines set forth in this RFGP are specific to the program mentioned above and are in addition to the standard guidelines outlined in the PSI. In any instance that there is a perceived disparity between the standard or program-specific guidelines, the program-specific guidelines listed in the RFGP are to be the dominant reference. The Solicitation Package contains detailed award criteria, required application forms, specific budget instructions, and standard guidelines for proposal preparation.

Please read the complete Federal Register announcement before sending inquiries or submitting proposals. Once the RFGP deadline has passed, Bureau staff may not discuss this competition with applicants until the proposal review process has been completed.

A. Proposal Submission Information

1. Announcement Title and Number

All correspondence with the Bureau concerning this RFGP should reference the above title and number ECA/A/E/AF-01-02.

2. Application Submission Deadline

All proposal copies must be received at the Bureau of Educational and Cultural Affairs by 5 p.m. Washington, D.C. time on Thursday, February 1, 2001. Faxed documents will not be accepted at any time. Documents postmarked on the due date but received on a later date will not be accepted.

Each applicant must ensure that the proposals are received by the above deadline.

Applicants must follow all instructions in the Solicitation Package. The original and seven (7) copies of the application should be sent to: U.S. Department of State, SA-44, Bureau of Educational and Cultural Affairs, Ref.: ECA/A/E/AF-01-02, Program Management, ECA/EX/PM, Room 534, 301 4th Street, SW., Washington, DC 20547.

3. For Further Information or To Request a Solicitation Package

Please contact the program officer, Carol Herrera, by mail at: African Programs Branch, Office of Academic Exchanges (ECA/A/E/AF)—Rm. 232, U.S. Department of State, 301 4th Street, SW., Washington, DC 20547, Ph: (202) 619-5405, F: (202)619-6137, E-mail: cherrera@pd.state.gov.

4. To Download a Solicitation Package Via Internet

The entire Solicitation Package may be downloaded from the Bureau's website at http://exchanges.state.gov/education/RFGPs. Please read all information before downloading.

Note: Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

5. Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through the Fulbright-Hays Act.

6. Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

B. Program Information

1. Background

Since 1998 the Clinton Administration has launched several special initiatives for education in Africa to further African integration into the global community by improving the quality of, and technology for, education in Africa. As a result of President Clinton's recent visit to Nigeria, the Africa Programs Branch seeks to create a Summer Institute on Education Reform for Nigerian Tertiary Education Administrators and Policy Makers. Under the Fulbright banner the program further seeks to promote mutual understanding between the peoples of the United States and Nigeria.

Over the past two decades, large increases in the number of students at every level of the education system coupled with diminishing resources provided by Nigeria's military rulers dramatically decreased the quality of education in Nigeria. The proposed program seeks to engage Nigerian tertiary education administrators, government policy makers and other stakeholders in a detailed review of major reform issues in the U.S. that will help the participants identify and explore potential areas of reform within the Nigerian education system and approaches to instituting reforms.

2. Program Description

The Summer Institute seeks to encourage key stakeholders and decision makers to promote a bolder vision for the future of Nigerian tertiary education and establish long-term educational reform goals that benefit the nation as a whole. The six-week program is intended to improve the quality of tertiary education in Nigeria by (1) helping participants identify and examine potential areas of reform in Nigerian tertiary education by thoughtfully reviewing American experiences, (2) promoting cooperation, coordination, and cross-fertilization of ideas among the participants and with U.S. facilitators and counterparts, (3) through case studies, site visits and other experiential means, examining American examples of educational reform efforts applicable to a Nigerian context and, (4) strengthening participants' leadership, management, and organizational skills.

The 25 participants will be selected not only from among university administrators but from policy makers as well.

Half of the group will be composed of senior university administrators representing federal and state universities, polytechnics, teacher colleges, and a new private university. The rest of the group will be education policy makers from the Federal Ministry of Education, some state governments, important commissions such as the Examination Council (WAEC), the National Universities Commission (NUC), the Committee of the Colleges of Education and the National Assembly's Education Committee. The entire participant selection process will be carried out in Nigeria by the Public Affairs Section of the American Embassy.

3. Program Objectives

3.1 Identifying and Examining Potential Areas of Reform in Nigerian Tertiary Education

Although the program will reference American examples of education reform, the wide disparity between the American and Nigerian contexts demands that the focus be on the Nigerian education system. Any American examples that are used must have relevance and applicability to the realities of Nigeria. It is not enough that the host institution provide a menu of recent American reform efforts and examples of successes and failures with the hope that the participants will glean what they need from the American model. This should not be perceived to be an American Studies program on Education Administration but an Education Administration program specifically designed for Nigerian education stakeholders. Specific topics may include but will not be limited to: establishing coordination among the various components of the higher education system, turning policy into practice, education funding and fundraising, accreditation, testing, teacher training, certification, setting admissions standards, hiring practices, staff development, community outreach, legislative oversight, publications, student government, etc.

The host institution will prepare a needs assessment to be carried out prior to the participants arrival in the U.S. to determine what areas the participants identify as most relevant and develop the program around those perceived priorities. The approach should be one that provides in-depth content on a few selected topics rather than cursory information on a wide variety of topics.

3.2 Promoting Cooperation, Coordination, and Cross-fertilization of Ideas Among the Participants and With U.S. Facilitators and Counterparts

Sessions and activities should be designed to enable the participants to use critical and creative thinking skills and teamwork in developing solutions and approaches to effect realistic and implementable reform goals in the areas of interest identified in the needs assessment.

3.3 Examining American Examples of Educational Reform Efforts Applicable to a Nigerian Context

Through case studies, site visits and other experiential means, the participants will study examples of American education reform that correspond to the areas of interest identified in the needs assessment. Activities should include but are not limited to visits to a selection of universities; pertinent government offices, both federal and state; federal and state legislative education committees; meetings with university administrators such as presidents, vice presidents, and deans.

Examples used should, as closely as possible, demonstrate challenges similar to those that confront the Nigerian administrators; i.e., lack of funding, poorly trained staff, low staff morale due to insufficient pay, overcrowded classes, student unrest, etc.

3.4 Strengthening Participants' Leadership, Management, and Organizational Skills

Potential topics may include but are not limited to: participatory planning; developing clear, implementable goals and objectives; assessment and analysis; formulating action plans; monitoring and evaluation (of faculty, staff, students, curriculum, etc.); staff development; accountability and the ethical dimensions of leadership; building a constituency for change; promoting ownership and commitment; interpreting and adapting to a changing environment; being responsive to constituencies, etc.

4. Program Specific Guidelines

4.1 Program Duration/ Dates

The program will be approximately six weeks in length and should begin and end between the dates of June 1, 2001 and September 30, 2001. These dates will include the arrival and departure dates of the participants.

4.2 Number/Types of Participants

There will be a maximum of 25 participants, approximately half of whom will be university administrators and half of whom will be policy makers. They will come from various parts of Nigeria and various ethnic groups and will likely be predominantly male. Applicants may wish to take this into consideration in planning and logistics. If the number of women in the group is small, efforts may be needed to ensure their full inclusion and participation. Most, but not all, will have at least some overseas experience, having attended international conferences, participated in international visitors programs, etc. Some will have spent time studying abroad, primarily in the U.K. but other countries as well including the U.S. Minimum qualifications for all participants will be the equivalent of BA/BS degrees from their national educational system.

4.3 Grantee Administrative Responsibilities

The following are the responsibilities of the grantee that will be covered under the terms of the grant and must be included in the budget submission. Please refer to the next section in this document (Section 5, Budget Guidelines) and PSI Budget Guidelines for further details.

• Travel/transportation in the U.S. Participants will arrive and begin their program in Washington, DC. The host institution will arrange all domestic transportation (excluding travel from Washington, DC to program site if by air) to and from airports and for cultural and educational activities provided under this project. For travel between Washington, DC and the Summer Institute site, the host institution may propose to substitute travel by bus or by train for travel by commercial air carrier, if ground transportation is a feasible, cost-effective travel alternative. However, if the host institution opts to use ground transportation between Washington, DC and the program site, the cost must be included in the budget proposal.

It is expected that the grantee will make arrangements to meet the participants upon arrival in Washington. Departures for return travel to Nigeria will be from the program site.

• Lodging: Accommodations in faculty guest quarters with single rooms or suites are preferred. Kitchen facilities for food storage and preparation to accommodate 25 participants should be provided. Lodging should be within reasonable walking distance to location of classes and/or readily accessible to university transportation system. Easy access to public transportation that enables participants to venture out into the larger community is desirable.

• Meals: A system of cash subsistence payments that allow participants to shop for and prepare their own meals is preferred. Cafeteria meal plans that can accommodate African preferences are possible. If using a meal plan exclusively, show clearly how the cost of meals will be covered when participants' travel away from campus or campus cafeterias are closed.

• Incidentals allowance: Each participant will receive an incidentals allowance of $15 per day for the full number of days of the Summer Institute including at the host institution, while in Washington, DC and/or other U.S. city visited.

• Book Allowance: The project will provide each participant with a supplemental book allowance of $150 per person. The institution should plan to assist participants in selection, acquisition and shipment of materials for their needs. The institution should develop a plan that allows participants to stretch their book allowance as far as possible through institutional or publishers' discounts.

• Health Coverage Administration: Although the Bureau assumes the responsibility of providing limited accident and sickness insurance coverage for participants, the grantee is responsible for enrolling all participants in the Bureau's health coverage program. A plan on providing participants with ready access to medical care should be included in the proposal.

4.4 Bureau Administrative Responsibilities

The following are the responsibilities of the Bureau and will not be covered under the terms of the grant and should not be included in the budget submission:

• Selection of Participants: The selection process will be carried out by the U.S. Public Affairs Section (PAS) in Nigeria. The Bureau will be responsible for and facilitate all communications between the PAS and the institution. The Bureau will provide the grantee with participants' curriculum vitae and other relevant information.

• International Travel: The Bureau is responsible for participants' international travel. The Bureau, in coordination with the U.S. Embassy in Abuja, will make international airline reservations and purchase round-trip international airline tickets for all participants from Nigeria to the site of the Summer Institute via Washington, D.C.

The Bureau will advise the host institution of the group's arrival/departure schedules.

• Health Coverage: The Bureau provides limited accident and sickness insurance coverage for participants in the Summer Institute and will provide the grantee with the necessary instructions and forms to complete prior to the participants' arrival.

• Visas: Participants will travel on J-1 visas, Program number G-1-5, issued by the U.S. Consulate in Lagos. Program must comply with J-1 visa regulations. Please refer to Proposal Submission Instructions for further information.

5. Budget Guidelines

Applicants must submit a comprehensive budget for the entire program, not to exceed $200,000. The Bureau plans to award one grant at a level of approximately $200,000. Grants awarded to eligible organizations with less than four years of experience in conducting international exchange programs will be limited to $60,000.

There must be a summary budget as well as breakdowns reflecting both administrative and program budgets. Applicants may provide separate sub-budgets for each program component, phase, location, or activity to provide clarification.

Proposals should maximize cost-sharing through private sector support as well as institutional direct funding contributions.

In addition to the guidelines provided here, applicants should refer to the Budget Guidelines section of the PSI.

5.1. Allowable Costs

Allowable costs for the program include:

• Instructional costs, i.e.; instructors' salaries, honoraria for outside speakers, educational course materials

• Lodging, meals, and incidentals for participants

• Expenses associated with cultural activities, i.e.; admission fees, transportation

• Administrative costs as necessary

5.2 Line-item Budget

Divide the Line-item budget into Program and Administration sections. The line-item budget should include and elaborate on the categories listed below.

5.2.1 Program Section. The program section of the budget includes (1) academic program costs, (2) participant maintenance and allowances, and (3) cultural activities and other related costs

5.2.1.1 Academic program costs. The Institution may choose to itemize academic program costs (I.A.1) or set a fee per participant (I.A.2)

—Itemized academic program costs. (I.A.1)

• Instructors' salaries as appropriate. Salaries, benefits, and services for instructors' salaries for the Institute classes. Identify each position and provide position title, role in the Institute, and, as appropriate, annual salary and percent of effort used for the Institute. Benefit costs should be stated separately from salary costs. Identify how benefits and services were computed.

• Honoraria and per diem for outside speakers, if any. (List names and amounts).

• Film and video rentals, educational materials, curricular needs (i.e. texts, course packs for classes), as appropriate.

—Fee per participant (I.A.2)

If the institution chooses to budget academic program costs as a fee per participant, please state what services are provided within that fee.

5.2.1.2 Costs for maintenance and other allowances for participants. (Clearly indicate the unit cost of each item.)

• Lodging. Housing may be in graduate dormitories, faculty residences, or other, as appropriate. Single rooms preferred.

• Meals. Meals may be provided through cash subsistence payments to participants, cafeteria meal plans, or a combination of both. If using a meal plan exclusively, show clearly how the cost of meals will be covered when participants travel away from campus or campus cafeterias are closed.

• Incidentals allowance. Include an incidentals allowance of $15 per person per day for full number of days of the Summer Institute at the host institution.

• Supplemental book allowance of $150 per person.

• Excess baggage allowance of $150 per person.

Note: Per diem rate for lodging and meals may not exceed published U.S. government allowance rates for the site of the Institute. Institutions may use per diem rates that are lower than official government rates.

5.2.1.3 Cultural activities and other program-related costs

• Cultural activities: entrance fees, overnight lodging, meals not provided for in B.2.

• Costs for Washington cultural and educational tour.

• Lodging for participants. It is acceptable for participants to share rooms on trips away from primary institute site.

• Meals for participants away from regular site.

• Incidentals allowance for participants. (Include a $15 per person per day incidental allowance for full number of days in Washington and/or other city.)

• Transportation: Ground transportation for group cultural and educational activities; ground transportation for airport arrival and departure.

• Escort Staff: Domestic transportation costs and per diem (or lodging and subsistence) for grantee escort staff for overnight cultural activities and Washington visit.

Note: The Bureau will provide round-trip international air tickets (from home country to Washington, D.C. to Institute site, and return to home country) for participants. The cost of travel for participants from Washington, D.C. to the institute site should not be included in a budget unless the institution opts to use ground transportation. If travel by means other than commercial airline are proposed, show transportation costs in the budget.

5.2.2 Administration Costs

• Staff requirements.

• Benefits.

• Other direct administrative expenses.

• Indirect expenses.

6. Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the 'Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

7. Proposal Preparation

Applicants should submit a complete and thorough proposal describing the program in a convincing and comprehensive manner. Since there is no opportunity for applicants to meet with reviewing officials, the proposal should respond to the criteria set forth in the solicitation package as clearly as possible. Proposals should address succinctly, but completely, the elements described below and must follow all format requirements.

Proposals should include the following items:

Table of Contents

(Tab A) Assistance Award Proposal Cover Sheet

(Tab B) Executive Summary

(Tab C) Narrative

(Tab D) Budget Submission

(Tab E) Supporting documentation

(Tab F) Standard forms

Guidelines on specific sections follow.

7.1 Table of Contents

List all attachments.

7.2 Assistance Award Proposal Cover Sheet (Tab A)

One additional copy of the application cover sheet must be included in an envelope marked “Attention: ECA/EX/PM.”

7.3 Executive Summary (Tab B)

In one double-spaced page, provide the following information about the project:

• Name of organization/participating institutions

• Beginning and ending dates of the program

• Proposed theme

• Nature of activity

• Funding level requested from the Bureau, total program cost, total cost-sharing from applicant and other sources—Scope and Goals

• Number and description of participants

• Wider audience benefiting from program (overall impact)

• Anticipated results (short and long-term)

7.4 Narrative (Tab C)

In 20 double-spaced, single-sided pages, provide a detailed description of the project addressing the areas listed below.

• Statement of need, objectives, goals, and benefits

Provide a well-defined, overarching vision of the program and a description of the steps/activities to be undertaken to create from the various components a well integrated whole. The rationale, goals and objectives articulated in the RFGP should be the foundation upon which the program proposal is built.

In keeping with the Bureau's goal of establishing long-term academic partnerships, the program should be crafted as part of a potential continuum of academic exchange opportunities that build upon and complement one another. The program should be seen as mutually beneficial to participants and program implementers, although the benefits may differ significantly.

• The host institution's qualifications in education administration and African school systems and relevance of past experience to this program.

• Implementation Approach and Strategy

The narrative should include a clear description of the general strategy and specific approach proposed to implement the program. As much as possible the program should be participant-focused incorporating adult learner strategies and oriented toward authentic learning outcomes and capacity-building in relation to real-world problem-solving. The program should be geared more toward enhancing participants' skills and less on providing information and materials.

• Participating Organizations (if applicable)

Provide a brief description of any other entities that are to play significant roles in the performance of this contract and how they fit into implementation.

• Work plan/Time Frame

The program should be approximately 6 weeks in length and should begin and end between the dates of June 1, 2001 and September 30, 2001. The work plan should clearly identify the number of hours dedicated to the various program components.

• Academic Component

Provide a description of the specific learning activities undertaken to meet goals and objectives of the program.

• Cultural Component

Include a description of those activities not directly related to the academic component and geared toward providing an American experience for the participants. To the extent possible, cultural activities should complement the goals and objectives of the academic component but should not be limited to only those with academic significance. Program days in Washington, DC and other major U.S. city should be included here.

• Provide a description of housing, maintenance and logistics including health care provisions for participants.

• Participant monitoring

Include a plan for measuring participant performance and tracking the individual's progress in meeting learning objectives.

• Follow-on plan

Include a description of short-term, mid-term and long-term goals in continuing the partnership between the host institution and the participants beyond the provisions of the summer institute grant. Although additional Bureau support would not be available for the short-term goals, mid-term and long-term goals could be considered for additional funding.

• Program Evaluation

The evaluation plan should identify anticipated outcomes and performance requirements clearly related to program goals and activities and include procedures for ongoing monitoring and corrective action when necessary. The identification of best practices relating to project administration is also encouraged, as is the discussion of unforeseen difficulties.

• Program Calendar

Include all academic, cultural and administrative activities.

7.5 Budget Submission (Tab D)

The cost to the Bureau for the Summer Institute for Nigerian Educators for 25 participants should not exceed $200,000. The final budget may be adjusted to reflect the actual number of participants.

Note: Please review carefully Standard Budget Preparation guidelines in Proposal Submission Instructions in regard to a Summary Budget and a detailed Line-Item Budget and descriptions and limitations of each type of administration cost. Use notes where further explanation of line items is required to clarify how the figures were derived.

7.6 Supporting Documentation (Tab E)

• Letters of endorsement

• Resumes

All program staff resumes should be included in the submission. No resume should exceed two pages.

7.7 Standard Forms (Tab F)

• “Additional Information” Form

• Copy of IRS notification of current tax-exempt status

• Four Required Certification Forms

• Certification of Compliance with Federal Forms

• Other attachments, if applicable

8. Review Process and Criteria

The Bureau will acknowledge receipt of all proposals and will review them for technical eligibility. Proposals are reviewed for adherence to legal and budgetary requirements by Bureau offices responsible for these functions. Proposals will be deemed ineligible if they do not fully adhere to the guidelines stated herein. For program content, cost-effectiveness, and other criteria spelled out in the RFGP, the review is conducted by an advisory, assistance award-review panel composed of Bureau and Department officers. Additional officers, including geographic area personnel, also review proposals for feasibility as well as potential for short- and long-term impact. Final funding decisions are at the discretion of the Department of State's Assistant Secretary for Educational and Cultural Affairs. Final technical authority for assistance awards resides with a Bureau Grants Officer. Technically eligible applications will be competitively reviewed according to the criteria stated below. These criteria are not rank ordered and all carry equal weight in the proposal evaluation:

8.1 Quality of Program Conceptualization and Planning

Proposals should exhibit substance, precision, and relevance to the Bureau's mission as well as adherence to all guidelines and objectives described in the RFGP. Proposals should provide a clear description of the general strategy and specific approach to implement the program. Proposals should also demonstrate effective use of community and regional resources to enhance both the educational and cultural experiences of the participants. Detailed agenda and relevant work plan should demonstrate substantive undertakings and logistical capacity.

8.2 Ability to Achieve Program Objectives

Proposals should clearly demonstrate how the institution will meet the program's objectives and plan.

8.3 Area Expertise

Proposals should demonstrate significant institutional and staff experience in and knowledge of Africa as well as expertise in education in developing countries.

8.4 Multiplier Effect/Impact

Proposed program should strengthen long-term mutual understanding, including maximum sharing of information and establishment of long-term institutional and individual linkages. To ensure that Bureau supported programs are not isolated events, a detailed post-institute plan (that does not require Bureau support) for follow-on activities that promote continued communication/involvement and build upon program achievements between the host institution and participants and/or the institutions they represent, should be incorporated into the proposal.

8.5 Program Monitoring/Evaluation

Proposals should include a plan to monitor program and participant progress through the course of the program and evaluate the overall success upon completion of the program. The Bureau recommends that the proposal include a participant needs assessment or other technique plus description of a methodology to link outcomes to original project objectives.

8.6 Support of Diversity

Proposals should demonstrate the recipient's commitment to promoting the awareness and understanding of diversity in both the American and African context. Program administrators should strive for diversity among Institute staff, student assistants, and host community contacts. Cultural, ethnic, and religious diversity of the participants should also be a consideration in program planning.

8.7 Institutional Capacity

Proposed personnel and institutional resources should be adequate and appropriate to achieve a substantive academic and cultural program. Proposals should demonstrate an institutional record of successful exchange programs, including responsible fiscal management and full compliance with all reporting requirements for past Bureau grants as determined by the Bureau's Office of Contracts. The Bureau will consider the past performance of prior recipients and the demonstrated potential of new applicants.

8.8 Cost-effectiveness

The overhead and administrative components of the proposal, including salaries and honoraria, should be kept as low as possible. All other items should be necessary and appropriate. Proposals should maximize cost-sharing through other private sector support as well as institutional direct funding contributions.

Notification

Final awards cannot be made until funds have been appropriated by Congress, allocated and committed through internal Bureau procedures.

Dated: November 30, 2000.
William B. Bader,
Assistant Secretary for Educational and Cultural Affairs, Department of State.

[FR Doc. 00 31075 Filed 12-6-00; 8:45 am]

BILLING CODE 4710-05-U